DEPARTMENT OF AGRICULTURE

Farm Service Agency

Request for Revision and Extension of a Currently Approved Information Collection—Servicing of Real Estate Security for Farm Program Loans and Certain Note Only Cases

AGENCY: Farm Service Agency, USDA

ACTION: Notice and request for comments.

SUMMARY: In accordance with the Paperwork Reduction Act of 1995, this notice announces the intent of the Farm Service Agency (FSA) to request an extension of currently approved information collection for a regulation used in support of the FSA Farm Loan Programs (FLP). This renewal does not involve any revisions to the program rules.

DATES: Comments on this notice must be received on or before May 24, 2004 to be assured consideration.

FOR FURTHER INFORMATION CONTACT: Constance Rime, Senior Loan Officer, USDA, Farm Service Agency, Farm Loan Programs, Loan Servicing Division, 1400 Independence Avenue, SW., STOP 0523, Washington, DC 20250-0523; Telephone (202) 690-4012; Electronic mail: constance_rime@wdc.usda.gov.

SUPPLEMENTARY INFORMATION: Title: Servicing of Real Estate Security for Farmer Program Loans and Certain Note-Only Cases.

OMB Control Number: 0560-0158.

Expiration Date: July 31, 2005.

Type of Request: Extension and Revision of a Currently Approved Information Collection.

Abstract: This regulation describes the policies and procedures for servicing real estate, leaseholds, and certain note-only security for FSA farm loans. The regulation promulgates provisions of sections 331 and 335 of the Consolidated Farm and Rural Development Act (Act) (7 U.S.C. 1981 and 1985). This information is required from a program benefit recipient or loan borrower who has requested action on security that has been mortgaged to the Agency.

The information to be collected from FSA borrowers will primarily be financial data not already on file, such as borrower asset values. This information is submitted by the borrower to the Agency and is used by the Agency officials to grant release from personal liability where security property is transferred to approved applicants who, under the agreement, assume the outstanding secured indebtedness. The Agency official may grant partial releases, subordination of mortgages, consent to leases of security and transfers of security property. All transactions granted are intended to accomplish the loan objective and to protect the Government's financial interest.

Estimate of Burden: Public reporting burden for this collection of information is estimated to average .36 hours per response.

Respondents: Individuals or households, businesses or other for profit farming entities.

Estimated Number of Respondents: 24,213.

Estimated Number of Responses per Respondent: 1.2.

Estimated Total Annual Burden on Respondents: 10,553 hours.

Comments are invited on: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Constance Rime, Senior Loan Officer, USDA, FSA, Farm Loan Programs, Loan Servicing Division, 1400 Independence Avenue, SW., STOP 0523, Washington, DC 20250-0523.

Comments will be summarized and included in the request for OMB approval of the information collection. All comments will also become a matter of public record.

Signed in Washington, DC, on March 12, 2004.
James R. Little,
Administrator, Farm Service Agency.

[FR Doc. 04-6515 Filed 3-23-04; 8:45 am]

BILLING CODE 3410-05-P